DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed new collection of a Work-Flex State Plan. A copy of the proposed information collection request (ICR) can be obtained by contacting the office listed below in the addressee section of this notice.

DATES: Written comments must be submitted to the office listed in the addressee's section below on or before September 24, 2001.

ADDRESSES: Chuck Welborn, U.S. Department of Labor, Employment and Training Administration, 200 Constitution Avenue, NW., Room N-4659, Washington, DC 20210. Telephone: (202) 693-3358 (this is not a toll-free number). Internet address: cwelborn@doleta.gov, Fax: (202) 693-3255.

SUPPLEMENTARY INFORMATION:

I. Background

Section 192 of the Workforce Investment Act of 1998 (WIA), Public law 105-220, permits States to apply for a workforce flexibility (Work-Flex) waiver authority to implement reforms to their workforce investment systems in exchange for program improvements. The Act provides that the Secretary may grant Work-Flex waiver authority for a period of up to five years pursuant to a Work-Flex Plan submitted by a State.

Under Work-Flex, Governors are granted the authority to approve requests submitted by their local areas to waive certain statutory and regulatory provisions of WIA Title I programs. States may also request from the Secretary waivers of certain requirements of the Wagner-Peyser Act (sections 8-10) and certain provisions of the Older Americans Act applicable to State agencies that administer the Senior Community Service Employment Program (SCSEP).

The intent of the Work-Flex provision is to authorize States and Local Areas the operational flexibility they need to improve employment and training productivity for adult, dislocated, and youth populations. One of the underlying principles of Work-Flex is that it will result in improved performance outcomes for persons served and that waiver authority will be granted in consideration of improved performance.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumption used;

• Enhance the quality, utility, and clarify of the information to be collected; and

• Minimize the burden of the collection of information on those who are to respond, including through the use of appropriate automated, electronic, mechanical, or other technological collection techniques or other forms of information technology, e.g., permitting electronic submissions of responses.

III. Current Actions

The Work-Flex Plan describes the process by which local areas in the State may submit and obtain approval by the State of applications for waivers of the statutory and regulatory requirements applicable under Title I of WIA; the requirements that are likely to be and proposed to be waived by the State under the plan; the outcomes to be achieved by the waiver authority; special accountability measures to be taken; and the public review and comment process. In an effort to reduce the paperwork burden on States the Department has limited the size of the Work-Flex Plan to ten pages, exclusive of necessary attachments. A State granted Work-Flex authority is required to submit quarterly reports consisting of 10 items which summarize waiver activities in the State.

Type of Review: New.

Agency: Employment and Training Administration.

Title: Work-Flex State Plan.

OMB Number: 1205-0NEW.

Record Keeping: Consistent with 29 CFR 97.42, records and supporting documentation should be retained for three years on a Federal fiscal year basis. The retention period for quarterly reports associated with a fiscal year starts on the date the State submits its last quarterly report for that fiscal year. The retention period for the State Work-Flex Plan starts on the last day of the fiscal year for which it was initially approved or subsequently modified, whichever is later.

Affected Public: State and Local Governments.

Form: N/A.

Cite/reference | Total respondents | Frequency | Total responses | Average time per response (in hours) | Burden hours
State Plan | 5 | Annually | 5 | 160 | 800
Quarterly Report | 5 | Quarterly | 20 | 8 | 160
Totals |  |  | 25 |  | 960

Total Burden Cost (operating/maintaining): $21,427.

Comments submitted in response to this comment request will be summarized and or included in the request for Office of Management and Budget approval of the information collection request; they will also become a matter of public record.

Dated: July 5, 2001.
Shirley M. Smith,
Administrator, Office of Adult Services.

Work-Flex State Plan Instructions

States requesting designation as a Work-Flex State must submit a Work-Flex Plan which includes descriptions of:

a. The process by which local areas in the State may submit and obtain approval by the State of applications for waivers of requirements applicable under Title I of WIA, including provisions for public review and comment on local area waiver applications.

b. The statutory and regulatory requirements of Title I that are likely to be waived by the State under the plan.

c. The requirements applicable under sections 8 through 10 of the Wagner-Peyser Act that are proposed to be waived, if any.

d. The statutory and regulatory requirements of the Older Americans Act of 1965 applicable to State agencies on aging with respect to administration of the Senior Community Service Employment Program (SCSEP) that are proposed to be waived, if any.

e. The outcomes to be achieved by the waiver authority including, where appropriate, revisions to adjusted levels of performance including in the State or Local Plan under Title I of WIA.

f. Special measures (in addition to current procedures) to be taken to ensure appropriate accountability for Federal funds in connection with the waivers.

g. Prior to submitting a Work-Flex Plan to the Secretary for approval, the State must provide to all interested parties and to the general public adequate notice and a reasonable opportunity for comment on the waivers proposed to be implemented. The plan should describe the process used for ensuring meaningful public comment. Include a description of the Governor's and the State Workforce Investment Board's involvement in drafting, reviewing and commenting on the plan. Describe actions taken to collaborate in the development of the State Work-Flex Plan with local chief elected officials, local workforce investment boards and youth councils, the business community, (including small businesses), labor organizations, educators, vocational rehabilitation agencies, and other interested parties, such as service providers, welfare agencies, community-based organizations, transportation providers, and other stakeholders.

Work-Flex Quarterly Report Instructions

Report for each waiver granted:

1. Waiver # (assigned by State)

2. Date received

3. Date granted

4. Local Area(s) requesting waiver

5. Purpose (brief statement)

6. Regulation/statute affected

Summary (year-to-date):

1. # of waivers granted

2. # of waivers denied

3. # of waivers pending

4. Total waivers received

[FR Doc. 01-18577 Filed 7-24-01; 8:45 am]

BILLING CODE 4510-30-M